DEPARTMENT OF HOUSING AND URBAN DEVELOPMENT

[Docket No. FR-4950-C-16A]

Notice of HUD's Fiscal Year (FY) 2005 Notice of Funding Availability Policy Requirements and General Section to SuperNOFA for HUD's Discretionary Grant Programs; Community Development Block Grant Program for Indian Tribes and Alaska Native Villages; Competition Reopening Announcement

AGENCY: Office of the Secretary, HUD.

ACTION: Notice of Funding Availability (SuperNOFA) for HUD Discretionary Grant Programs; Community Development Block Grant Program for Indian Tribes and Alaska Native Villages NOFA; competition reopening announcement.

SUMMARY: On March 21, 2005, HUD published its Fiscal Year (FY) 2005, Notice of Funding Availability (NOFA) Policy Requirements and General Section to the SuperNOFA for HUD's Discretionary Grant Programs. The Community Development Block Grant Program for Indian Tribes and Alaska Native Villages (ICDBG) Program NOFA competition, which was included in the SuperNOFA, closed on June 20, 2005. This document announces the reopening of the ICDBG Program NOFA competition.

DATES: The new application submission date for the ICDBG Program is August 25, 2005.

FOR FURTHER INFORMATION CONTACT: Applicants should direct general program questions to the Area ONAP serving its area or to Barbara Gallegos, Grants Management Specialist, Department of Housing and Urban Development, One North Central Avenue, Suite 600, Phoenix, AZ 85004, telephone, (602) 379-7215. Persons with speech or hearing impairments may access this number via TTY by calling the toll-free Federal Information Relay Service at 800-877-8339.

SUPPLEMENTARY INFORMATION: On March 21, 2005 (70 FR 13575), HUD published its FY2005 SuperNOFA for HUD's Discretionary Grant Programs. The ICDBG Program, which was included in the SuperNOFA, made approximately $68 million available in HUD assistance. According to the SuperNOFA, the application submission date for the ICDBG NOFA was June 20, 2005.

HUD understands that many eligible applicants may have had difficulty submitting their applications. Therefore, in order to give all NOFA applicants sufficient time to submit completed applications, this notice reopens the ICDBG NOFA competition. The new application submission date for the ICDBG NOFA competition is August 25, 2005.

Applicability of SuperNOFA General Section and ICDBG NOFA Requirements to Reopened Competition

Please note that the ICDBG NOFA competition description, application submission requirements, and application review information were published in HUD's FY2005 SuperNOFA on March 21, 2005 (70 FR 13575). All requirements listed in the General Section and in the ICDBG Program NOFA are applicable to this reopened competition except for those requirements explicitly changed by this notice (such as the due date and requirement for electronic submission).

Applicants that did not previously submit an application must download the application from Grants.gov as described in the SuperNOFA. Applicants that have already submitted an application do not need to resubmit another application. However, if an applicant chooses to make any changes to an application that has already been submitted, it must download a new application from Grants.gov, complete the application, and resubmit by the new deadline date. If HUD receives more than one application from an applicant, HUD will consider only the application received latest in time. If an applicant decides to resubmit an application, the newly submitted application must be complete. HUD will not accept partial amendments to applications that were previously submitted.

Submission Procedures

Applicants may submit their applications through Grants.gov as described in the SuperNOFA. In addition, for this FY2005 reopened funding opportunity, if an applicant is unable to submit its application electronically through Grants.gov, the applicant may submit a paper application without requesting a waiver from this requirement. HUD does not intend to accept paper applications in the future without a waiver.

Applicants that choose to submit a paper application should send an original and two copies to the appropriate Area Office of Native American Programs (ONAP) for its jurisdiction. See Section IV.F. of the ICDBG program NOFA for area ONAP addresses and additional information.

As described in section IV.F.5.b of the General Section, applicants submitting a paper application must use the United States Postal Service (USPS) to submit its application to HUD. Applicants must take their application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. Applicants whose applications are determined to be late, who cannot furnish HUD with a receipt from the USPS that verifies the package was submitted to the USPS prior to the submission due date and time will not receive funding consideration. Applicants may use any type of mail service provided by the USPS to have their application package delivered to HUD in time to meet the submission requirements.

HUD will not accept hand delivery of applications.

Dated: July 21, 2005.
Paula O. Blunt,
General Deputy Assistant, Secretary for Pubic and Indian Housing.

[FR Doc. 05-14792 Filed 7-25-05; 8:45 am]

BILLING CODE 4210-33-P